DEPARTMENT OF JUSTICE

Notice of Lodging of Consent Decree Under the Comprehensive Environmental Response, Compensation, and Liability Act

Notice is hereby given that on February 23, 2004, a proposed Consent Decree in United States v. Buckeye Egg Farm, L.P. et al., Civil Action No. 3:03 CV 7681, was lodged with the United States District Court for the Northern District of Ohio, which will resolve claims asserted against defendants Buckeye Egg Farm L.P. (“Buckeye”), its general partner Croton Farm, LLC (“Croton Farm”), and Anton Pohlmann, the sole member of Croton Farm and the 99% interest limited partner of Buckeye, in an Amended Complaint also filed on February 23, 2004. Buckeye is the nation's fourth largest egg producer.

In this action the United States seeks final penalties and injunctive relief against Defendants for their failure to comply with an EPA request for information and administrative order under sections 114 and 113 of the Clean Air Act, as well for violations of PSD regulations and the Ohio SIP at three Buckeye facilities in Croton, Marseilles, and Mount Victory, Ohio. The claims pertain to emissions from Buckeye's barns of particulate matter and ammonia. Preliminary air emission tests required by EPA indicate that air emissions of particulate matter (PM) from Buckeye's facilities are significant—over 550 tons/year (tpy) from the Croton facility, over 700 tpy from the Marseilles facility, and over 600 tpy from the Mt. Victory facility. Many scientific studies have linked particulate matter to aggravated asthma, coughing, difficult or painful breathing, chronic bronchitis and decreased lung function, among other ailments (see http://www.epa.gov/air/urbanair/pm/index.html.) Buckeye also reported ammonia emissions of over 800 tpy from its Croton facility, over 375 tpy from the Marseilles facility, and nearly 275 tpy from the Mt. Victory facility. Ammonia is a lung irritant.

Under the proposed Consent Decree, Defendants will pay an $880,598 civil penalty and will spend over $1.6 million to install and test a system to capture particulate matter in each of its barns at the Marseilles and Mt. Victory facilities before it is vented to the outside. They will also use enzyme additive products on the manure accumulated in the layer barns to reduce ammonia emissions by at least 50 percent. Additional controls are required if dust or ammonia emissions are not satisfactorily reduced.

The Croton facility is required by the state of Ohio to install belt battery manure handling systems at its layer barns over the next five years. Because of this requirement, the Consent Decree requires alternative controls for the Croton facility. These include changes in bird variety and feed, which are expected to reduce both particulate matter and ammonia emissions. The Consent Decree requires extensive testing of these measures. If they are not successful, Buckeye will be required to install particulate impaction systems and other appropriate PM controls for the converted barns. The barns will also be treated with the enzyme product for ammonia control. The combination of particulate and ammonia controls at these facilities is also expected to reduce substantially fly infestations, which have been a subject of repeated state and private litigation against Buckeye.

While Buckeye recently sold its three facilities to Ohio Fresh Eggs LLC, the settlement requires Buckeye to bind the purchaser to implement the environmental improvements required under the Consent Decree. Buckeye remains liable for any violations.

The Department of Justice will receive for a period of thirty (30) days from the date of this publication comments relating to the Consent Decree. Comments should be addressed to the Assistant Attorney General of the Environmental and Natural Resources Division, Department of Justice, P.O. Box 7611, Washington, DC 20044, and should refer to United States v. Buckeye Egg Farm, L.P. et al., D.J. Ref. 90-5-2-1-07262.

The Consent Decree may be examined at the Office of the United States Attorney, Northern District of Ohio, 4 Seagate, Suite 308, Toledo, Ohio 43604, or at the Region 5 Office of the Environmental Protection Agency, 77 West Jackson Street, Chicago, Illinois 60604-3590. During the public comment period the proposed Consent Decree may also be examined on the following Web site, http://www.usdoj.gov/enrd/open.html. A copy of the proposed Consent Decree may also be obtained by mail from the Consent Decree Library, PO Box 7611, U.S. Department of Justice, Washington, DC 20044-7611, or by faxing or e-mailing a request to Tonia Fleetwood (tonia.fleetwood@usdoj.gov), fax no. (202) 514-0097, phone confirmation number (202) 514-1547. In requesting a copy, please enclose a check in the amount of $17.75 (71 pages at 25 cents per page reproduction cost) payable to the U.S. Treasury.

William D. Brighton,
Environmental Enforcement Section, Environment and Natural Resources Division.

[FR Doc. 04-5421 Filed 3-10-04; 8:45 am]

BILLING CODE 4410-15-M